DEPARTMENT OF TRANSPORTATION

Federal Aviation Administration

Tenth Joint Meeting, RTCA Special Committee 205/EUROCAE Working Group 71: Software Considerations in Aeronautical Systems

AGENCY: Federal Aviation Administration (FAA), DOT.

ACTION: Notice of RTCA Special Committee 205/EUROCAE Working Group 71 meeting.

SUMMARY: The FAA is issuing this notice to advise the public of a meeting of RTCA Special Committee 205/EUROCAE Working Group 71: Software Considerations in Aeronautical Systems.

DATES: The meeting will be held February 23-27, 2009, from 8:30 a.m.-5:30 p.m.

ADDRESSES: The meeting will be held at Hotel NH Koeln Mediapark, Im Media Park 8b, Cologne, Germany, Reservation: +49.211.7811.100, Fax: +49.211.7811.888, E-mail: reservations.nrw.de@nh-hotels.com.

FOR FURTHER INFORMATION CONTACT: (1) RTCA Secretariat, 1828 L Street, NW., Suite 805, Washington, DC 20036; telephone (202) 833-9339; fax (202) 833-9434; Web site http://www.rtca.org; (2) Hotel Front Desk: (602) 273-7778; fax (602) 275-5616.

SUPPLEMENTARY INFORMATION: Pursuant to section 10(a) (2) of the Federal Advisory Committee Act (Pub. L. 92-463, 5 U.S.C., Appendix 2), notice is hereby given for a Special Committee 205/EUROCAE Working Group 71 meeting. The agenda will include:

February 23

• Opening Plenary (Chair's Introductory Remarks, Review of Meeting Agenda and Agreement of Previous Minutes

• Reports of Sub-Group Activity

• Other Committee/Other Documents Interfacing Personnel Reports (CAST, Unmanned Aircraft Systems, Security, WG-63/SAE S-18)

• Sub-Group Break Out Sessions

• New Members Introduction Session

• CAST Meeting: Closed

• Sub-group Breakout Sessions

• Plenary Session: Text Acceptance (for papers posted, commented on and reworked prior to Plenary)

• Executive Committee and SG Chairs/Secretaries Meeting

February 24

• Sub-Group Break Out Sessions

• Mandatory Paper Reading Session

• Executive Committee and SG Chairs/Secretaries Meeting

February 25

• IP Comment Reply & Sub-Group Break Out Sessions (focused on finalizing any changes to papers being presented later in the morning)

• Plenary Text Acceptance (for papers posted, commented on and reworked prior to Plenary)

• Sub-Group Break Out Sessions

• Executive Committee and SG Chairs/Secretaries Meeting

February 26

• Sub-Group Break Out Sessions

• Plenary Session

• Mandatory Paper Reading Session

• Executive Committee and SG Chairs/Secretaries Meeting

February 27

• IP Comment Reply & Sub-Group Break Out Sessions (focused on finalising any changes to papers being presented later in the morning)

• Plenary Text Approval (reworked and late posted papers)

• SG Report Outs

• SG1: SCWG Document Integration Sub-Group

• SG2: Issue & Rationale Sub-Group

• SG3: Tool Qualification Sub-Group

• SG4: Model Based Design & Verification Sub-Group

• SG5: Object Oriented Technology Sub-Group

• SG6: Formal Methods Sub-Group

• SG7: Special Considerations Sub-Group

• Closing Plenary (any other business, next meeting information, closing remarks, meeting evaluation, formal meeting close, meeting adjourned)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 8, 2008.
Francisco Estrada C.,
RTCA Advisory Committee.

[FR Doc. E8-29541 Filed 12-12-08; 8:45 am]

BILLING CODE 4910-13-P